DEPARTMENT OF HEALTH AND HUMAN SERVICES

Centers for Disease Control and Prevention

[Program Announcement 03036]

Grants for Dissertation Awards for Doctoral Candidates for Violence-Related Injury Prevention Research in Minority Communities; Notice of Availability of Funds; Amendment

A notice announcing the availability of fiscal year (FY) 2003 funds for a grant program for Dissertation Awards for Doctoral Candidates for Violence-Related Injury Prevention Research in Minority Communities published in the Federal Register on February 7, 2003, Volume 68, Number 26, pages 6475-6479. The notice is amended as follows: On page 6476, first column, Section D. Funds, sub-section Use of Funds, at the end of the paragraph, add the following sentence: Indirect costs for these trainee-related activities are limited to eight percent.

On page 6477, second column, Section G. Submission, Date, Time and Address, the first sentence should read: The application must be received by 4 p.m. Eastern Time April 8, 2003.

Dated: February 13, 2003.
Sandra R. Manning,
Director, Procurement and Grants Office, Centers for Disease Control and Prevention.

[FR Doc. 03-4230 Filed 2-21-03; 8:45 am]

BILLING CODE 4163-18-P